DEPARTMENT OF THE INTERIOR

National Park Service

[NPS-WASO-NAGPRA-NPS0040147; PPWOCRADN0-PCU00RP14.R50000]

Notice of Intended Repatriation: Ralph T Coe Center for the Arts, Santa Fe, NM

AGENCY: National Park Service, Interior.

ACTION: Notice.

SUMMARY: In accordance with the Native American Graves Protection and Repatriation Act (NAGPRA), the Ralph T Coe Center for the Arts intends to repatriate certain cultural items that meet the definition of unassociated funerary objects, sacred objects, and/or objects of cultural patrimony and that have a cultural affiliation with the Indian Tribes or Native Hawaiian organizations in this notice.

DATES: Repatriation of the cultural items in this notice may occur on or after June 16, 2025.

ADDRESSES: Rose Burns, Ralph T Coe Center for the Arts, 1590B Pacheco St., Santa Fe, NM 87505, telephone (505) 983-6372, email: rburns@coeartscenter.org.

SUPPLEMENTARY INFORMATION: This notice is published as part of the National Park Service's administrative responsibilities under NAGPRA. The determinations in this notice are the sole responsibility of the Ralph T Coe Center for the Arts, and additional information on the determinations in this notice, including the results of consultation, can be found in the summary or related records. The National Park Service is not responsible for the determinations in this notice.

Abstract of Information Available

A total of seven cultural items have been requested for repatriation. The six sacred objects are a pipe bowl (NA1139), two Mide panels (NA0276 and NA1424), two charm bags (NA0234 ab), and an otter bag (NA0466). The one sacred object/object of cultural patrimony is a birchbark scroll (NA0274 b). Each item qualifies as a sacred object, as each plays a crucial role in Midewin ceremonies; NA0274 b meets the definition of an object of cultural patrimony in addition to being a sacred object.

All items listed were gifted to the Ralph T Coe Center for the Arts in 2011 by Ralph T Coe.

Ralph T Coe purchased NA1139 on June 2, 2005, from Toby Herbst, Galisteo, NM. Documentation in the Coe Center's database indicates that NA1139 was previously part of the Herbert G. Wellington Collection. NA1139 is published in Pleasing the Spirits: A Catalogue of a Collection of American Indian Art by Douglas Ewing. This object is likely from the Great Lakes region. The Ralph T Coe Center for the Arts has no further provenance information on this object.

Ralph T Coe purchased NA0276 on January 15, 1989 from James Economos. This object is likely from the Great Lakes region. The Ralph T Coe Center for the Arts has no further provenance information on this object.

NA1424 is likely from the Great Lakes region. The Ralph T Coe Center for the Arts has no further provenance information on this object.

Ralph T Coe acquired NA0234 ab in the mid-1970s, the source of this object is not documented in the Ralph T Coe Center for the Arts records. This object is likely from the Great Lakes region. The Ralph T Coe Center for the Arts has no further provenance information on this item.

Ralph T Coe purchased NA0466 from Parson's Trading Post, Wisconsin Dells, WI, in the late 1980's. This object is likely from the Great Lakes region. The Ralph T Coe Center for the Arts has no further provenance information on this item.

Ralph T Coe purchased NA0274 b in 1974 from Candelaria Trading Post on West San Francisco St., in Santa Fe, NM. As documented in our database he wrote that, “I found out that Monroe P. Killy, the previous owner, had obtained them from Fred K. Blessing.” This object is likely from the Great Lakes region. The Ralph T Coe Center for the Arts has no further provenance information on this item.

There are no known hazardous substances used to treat NA1139, NA0276, NA1424, NA0234 ab, NA0466 or NA0274 b.

Determinations

The Ralph T Coe Center for the Arts has determined that:

• The six sacred objects described in this notice are specific ceremonial objects needed by a traditional Native American religious leader for present-day adherents to practice traditional Native American religion, according to the Native American traditional knowledge of a lineal descendant, Indian Tribe, or Native Hawaiian organization.

• The one sacred object/object of cultural patrimony described in this notice is, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Minnesota Chippewa Tribe, Minnesota (Fond du Lac Band).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 16, 2025. If competing requests for repatriation are received, the Ralph T Coe Center for the Arts must determine the most appropriate requestor prior to repatriation. Requests for joint repatriation of the cultural items are considered a single request and not competing requests. The Ralph T Coe Center for the Arts is responsible for sending a copy of this notice to the Indian Tribes and Native Hawaiian organizations identified in this notice and to any other consulting parties.

Authority: Native American Graves Protection and Repatriation Act, 25 U.S.C. 3004 and the implementing regulations, 43 CFR 10.9.

Dated: May 6, 2025.
Melanie O'Brien,
Manager, National NAGPRA Program.

[FR Doc. 2025-08773 Filed 5-15-25; 8:45 am]

BILLING CODE 4312-52-P